ENVIRONMENTAL PROTECTION AGENCY

[FRL-7402-5]

Clean Water Act—Notice of Issuance and Opportunity for Public Comment on an Administrative Complaint Filed by the Environmental Protection Agency, Region IX

AGENCY: Environmental Protection Agency (“EPA”).

ACTION: Notice.

SUMMARY: On September 25, 2002, the U.S. Environmental Protection Agency, Region IX issued an Administrative Complaint: In the Matter of Al Julian, 29814 Margale Lane, Vista, California 92084. This Complaint proposes to issue a Final Order to Al Julian pursuant to section 309(g) of the Clean Water Act, 33 U.S.C. 1319(g), assessing a civil penalty of up to $137,500 for violations of the Clean Water Act.

The Complaint alleges that Al Julian violated the Clean Water Act by discharging dredge and fill material into a federally regulated water course, the San Luis Rey River in San Diego County, on numerous days in 1998 and 1999 without a Clean Water Act section 404 permit issued by the U.S. Army Corps of Engineers. Furthermore, Mr. Julian violated section 308(a), 33 U.S.C. 1318(a), which authorizes EPA to require persons subject to the Act to furnish information, by failing to respond to EPA's request.

The U.S. Environmental Protection Agency is required by Clean Water Act section 309(g)(4)(A), 33 U.S.C. 1319(g)(4)(A), to provide public notice of and reasonable opportunity to comment on the proposal to issue an Administrative Order before issuing the final Order.

Any person who comments on the proposal to issue a final Administrative Order shall be given notice of any hearing held in this matter. If a hearing is held, the commenter will be entitled to an opportunity to be heard and to present evidence. If no hearing is held, commenters may petition EPA to set aside any subsequent final Order and to hold a hearing. Commenters may also seek judicial review of the final Order pursuant to Clean Water Act section 309(g)(8), 33 U.S.C. 1319(g)(8).

DATES: Persons wishing to comment on the proposal to issue a final Administrative Order may do so by submitting written comments, postmarked no later than fifteen days from the date this Notice is published, to the address below.

ADDRESSES: U.S. EPA Region IX, 75 Hawthorne Street, San Francisco, CA 94105.

FOR FURTHER INFORMATION CONTACT: Requests for copies of the Administrative Complaint or further information on the matter should be directed to Marcela von Vacano at (415) 972-3905, or via mail at the above address, Mail Code ORC-2.

Catherine Kuhlman,
Acting Director, Water Division.

[FR Doc. 02-27620 Filed 10-29-02; 8:45 am]

BILLING CODE 6560-50-P